DEPARTMENT OF COMMERCE

International Trade Administration

(A-570-868)

Folding Metal Tables and Chairs from the People's Republic of China: Extension of Time Limit for the Final Results of the Antidumping Duty Administrative Review

AGENCY: Import Administration, International Trade Administration, Department of Commerce.

EFFECTIVE DATE: November 10, 2008.

FOR FURTHER INFORMATION CONTACT: Lilit Astvatsatrian, AD/CVD Operations, Office 8, Import Administration, International Trade Administration, U.S. Department of Commerce, 14th Street and Constitution Avenue, NW, Washington, DC 20230; telephone: (202) 482-6412.

SUPPLEMENTARY INFORMATION:

Background

On July 26, 2007, the Department of Commerce (“Department”) published the initiation of the administrative review of the antidumping duty order on folding metal tables and chairs from the People's Republic of China (“PRC”). See Initiation of Antidumping and Countervailing Duty Administrative Reviews and Request for Revocation in Part, 72 FR 41057 (July 26, 2007). On July 14, 2008, the Department published the preliminary results of review. See Folding Metal Tables and Chairs from the People's Republic of China: Preliminary Results of Antidumping Duty Administrative Review and Intent to Revoke in Part, 73 FR 40285 (July 14, 2008). This review covers the period June 1, 2006, through May 31, 2007.

Extension of Time Limit for Final Results of Review

Pursuant to section 751(a)(3)(A) of the Tariff Act of 1930, as amended (“Act”), the Department shall make a final determination in an administrative review of an antidumping duty order within 120 days after the date on which the preliminary results is published. The Act further provides, however, that the Department may extend that 120-day period to 180 days after the preliminary results if it determines it is not practicable to complete the review within the foregoing time period.

The Department finds that it is not practicable to complete the final results of the administrative review of folding metal tables and chairs from the PRC within the 120-day time limit due to complex issues the parties have raised related to revocation and surrogate financial statements. We find that additional time is needed to complete these final results. Therefore, in accordance with section 751(a)(3)(A) of the Act, the Department is extending the time period for completion of the final results of this review, which is currently due on November 11, 2008, by 30 days to 150 days after the date on which the preliminary results was published. Therefore, the final results are now due no later than December 11, 2008.

This notice is published in accordance with sections 751(a)(3)(A) and 777(i) of the Act.

Dated: November 4, 2008.
Stephen J. Claeys,
Deputy Assistant Secretary for Import Administration.

[FR Doc. E8-26732 Filed 11-7-08; 8:45 am]

BILLING CODE 3510-DS-S